DEPARTMENT OF HOMELAND SECURITY

Coast Guard

33 CFR Part 100

[Docket No. USCG-2013-0361]

RIN 1625-AA08

Special Local Regulations; Eleventh Coast Guard District Annual Marine Events

AGENCY: Coast Guard, DHS.

ACTION: Final rule.

SUMMARY: The Coast Guard is updating the list of marine events that occur annually within the Eleventh Coast Guard District. These updates include adding specific marine events to the list of marine events held annually in the Eleventh Coast Guard District as well as removing marine events that no longer occur. In addition to updating the list of marine events held annually in the Eleventh Coast Guard District, the Coast Guard is amending the special local regulations by standardizing the language and format of listed events. When these special local regulations are activated, and thus subject to enforcement, this rule will restrict vessels from transiting inside the regulated area.

DATES: This rule is effective March 6, 2014.

ADDRESSES: Documents mentioned in this preamble are part of docket USCG-2013-0361. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this rule, call or email Lieutenant Junior Grade Blake Morris, Eleventh Coast Guard District Prevention Division, Waterways Management Branch, U.S. Coast Guard; telephone 510-437-3801, email Blake.J.Morris@uscg.mil. If you have questions on viewing or submitting material to the docket, call Cheryl Collins, Program Manager, Docket Operations, telephone 202-366-9826.

SUPPLEMENTARY INFORMATION:

Table of Acronyms

DHS Department of Homeland Security

FR Federal Register

NPRM Notice of Proposed Rulemaking

A. Regulatory History and Information

On November 18th, 2013, we published a NPRM entitled Special Local Regulations: Eleventh Coast Guard District Annual Marine Events, in the Federal Register (78 FR 69007). We received no comments on the NPRM, or a request for public meeting. A public meeting was not held.

B. Basis and Purpose

The Coast Guard is conducting this rulemaking under the authority of 33 U.S.C. 1233.

Specific marine events are annually held on a recurring basis on the navigable waters within the Eleventh Coast Guard District and require special local regulations to keep spectators and vessels a safe distance away from the vessels and individuals that are participating in the specified events. These events include sailing regattas, powerboat races, rowboat races, parades, and swim events. Some of these marine events are not currently listed in 33 CFR part 100, sections 1101, 1102 and 1104 or many of the annual events that are listed in these sections do not correctly reflect the date or approximate date of the event or do not correctly identify other important information specific to the event.

The effect of these special local regulations will be to restrict general navigation in the vicinity of the events, from the start of each event until the conclusion of that event. Except for persons or vessels authorized by the Coast Guard Patrol Commander, no person or vessel may enter or remain in the regulated area. These regulations are needed to keep spectators and vessels a safe distance away from the specified events to help ensure the safety of participants, spectators, and transiting vessels.

C. Discussion of Comments, Changes and the Final Rule

We received no comments or request for a public meeting after publishing the NPRM for this rule. Therefore, no changes have been made to the regulatory text of this rule.

The Coast Guard is amending 33 CFR 100.1101, Southern California annual marine events for the San Diego Captain of the Port zone, by adding 12 new events and updating 1 event with correct verbiage. The 12 new events in this section are as follows: “ITU World Triathlon” occurring late April or early May at Bonita Cove and Ventura Cove in Mission Bay, San Diego; “Fearless Triathlon” occurring in March at the South Shores Boat Ramp in Mission Bay, San Diego; “Bay to Bay Rowing and Paddling Regatta” occurring in July from Mission Bay to San Diego Bay; “San Diego Sharkfest Swim” occurring one Saturday in September or October in the waters from Seaport Village across the federal channel to the Coronado Ferry Landing; “San Diego TriRock Triathlon” occurring on a Saturday in March in the East Embarcadero Marina Basin; “San Diego Bayfair” occurring the second or third weekend in September at Mission Bay, San Diego; “Oceanside Harbor Days Tiki Swim” occurring on one Saturday in late September or early October in Oceanside Harbor, Oceanside; “U.S. Open Ski Racing Nationals” occurring one weekend in October at Mission Bay, San Diego; “San Diego Maritime Museum Tall Ship Festival of Sail” occurring one weekend in September in San Diego Bay; “Hanohano Ocean Challenge” an outrigger canoe race occurring on a Saturday in January in Mission Bay, San Diego; “Crystal Pier Outrigger Race” an outrigger canoe race occurring in Mission Bay and Mission Bay Entrance Channel on a Saturday in May, Mission Bay, San Diego; and the “San Diego Ho'olaule'a & Keiki Heihei Wa'a Stand Up for the Kids Race” occurring on a weekend in May in Mission Bay, San Diego. We are also updating the information specific to the “San Diego Parade of Lights” by inserting a new event sponsor, date, and regulated area.

The Coast Guard is amending 33 CFR 100.1102, annual marine events on the Colorado River, between Davis Dam (Bullhead City, AZ) and Headgate Dam (Parker, AZ) within the San Diego Captain of the Port zone, by adding 9 new events and updating 1 event with correct verbiage. The 9 new events in this section are as follows: ”BlueWater Resort and Casino Southwest Showdown” occurring one weekend in March in the waters of the Colorado River between BlueWater Resort and Casino and just north of Headgate Rock Dam in Parker, AZ; “BlueWater Resort and Casino West Coast Nationals” occurring one weekend in April in the Lake Moovalya area of the Colorado River and the portion of the Colorado River adjacent to the BlueWater River Casino, in Parker, AZ; “Great Western Tube Float” occurring one Saturday in early June in the navigable waters of the Colorado River from La Paz County Park to the BlueWater Resort and Casino, immediately before the Headgate Dam; “Mark Hahn Memorial 300 PWC Endurance Race” occurring in late February at Lake Havasu; “Lake Havasu Triathlon” occurring in March at Lake Havasu; “Bullhead City River Regatta” occurring one Saturday in August in the Colorado River from Camp Davis to Rotary Park; “BlueWater Triathlon” occurring one Saturday in October in the waters of the Colorado River between Blue Water Resort and Casino Amphitheater and just north of Headgate Rock Dam in Parker, AZ; “BlueWater Resort and Casino 300 Enduro” occurring in late October at river mile markers 179 and 185 in the Colorado River; and “Another Dam Race” occurring one Saturday in November in the waters of the Colorado River between Blue Water Resort and Casino Amphitheater and just north of Headgate Rock Dam in Parker, AZ. We are also updating the information specific to the “Lake Havasu City Boat Parade of Lights” by inserting a new regulated area.

Lastly, the Coast Guard is reinstating 16 annually recurring marine events previously listed in 33 CFR 100.1104, Captain of the Port zone Los Angeles-Long Beach. The 16 marine events being reinstated were mistakenly deleted in 2011 and are not new events. By reinstating these 16 marine events, Table 1 of this section will accurately reflect the 17 annually recurring events that are held in the Captain of the Port zone Los Angeles-Long Beach.

These changes effectively update special local regulations with annually occurring marine events in the Eleventh Coast Guard District. Table 1 for each of the listed sections will reflect current information. This rulemaking limits the unnecessary burden of continually establishing temporary special local regulations every year for events that occur on an annual basis. These events include swimming competitions, sailboat and power boat races and rowing events within the San Diego and Los Angeles-Long Beach Captain of the Port zones.

Regulated areas listed in these events are needed to protect both the event participants, spectators, and other mariners and provide on-water awareness for safety. To reduce associated safety risks, special local regulations restrict vessels and water craft around the location of each marine event. Within the regulated areas of the listed marine events, persons and vessels not associated with the event are prohibited from entering, transiting through, remaining, anchoring or mooring within the regulated area unless specifically authorized by the Captain of the Port (COTP) or designated representative. Persons or vessels will be able to request authorization to enter, transit through, remain, anchor or moor within the regulated areas by contacting the Captain of the Port for the respective location, COTP San Diego 619-278-7033 and COTP Los Angeles-Long Beach 310-521-3801 or designated representative on VHF radio channel 16. If any person is authorized to enter, transit through, remain, anchor or moor within any of the regulated areas, the individual is required to comply with the instructions of the COTP or designated representative.

Designated representatives are comprised of commissioned, warrant, and petty officers of the Coast Guard. The Coast Guard may also be assisted by other federal, state, and local agencies in the enforcement of these regulated areas.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. We expect the economic impact of this rule to be so minimal that a full Regulatory Evaluation is unnecessary. This rule is not a significant regulatory action because the regulations exist for a limited period of time on a limited portion of the waterways. Further, individuals and vessels desiring to use the affected portion of the waterways may, upon permission from the Patrol Commander, use the affected areas.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

We expect this rule will affect the following entities, some of which may be small entities: the owners and operators of vessels intending to fish, transit, or anchor in the waters affected by these special local regulations. These special local regulations will not have a significant economic impact on a substantial number of small entities for the following reasons: small vessel traffic will be able to pass safely around the area and vessels engaged in event activities, sightseeing and commercial fishing have ample space outside of the area governed by the special local regulations to engage in these activities. Small entities and the maritime public will be advised of implementation of these special local regulations via public notice to mariners or notice of implementation published in the Federal Register.

3. Assistance for Small Entities

Under section 213(a) of the Small Business Regulatory Enforcement Fairness Act of 1996 (Public Law 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule involves updating the list of marine events that occur annually within the Eleventh Coast Guard District. These updates include adding specific marine events to the list of marine events held annually in the Eleventh Coast Guard District as well as removing marine events that no longer occur. In addition to updating the list of marine events held annually in the Eleventh Coast Guard District, the Coast Guard is amending the special local regulations in 33 CFR 100, sections 1101, 1102 and 1104 by standardizing the language and format of listed events. When these special local regulations are activated, and thus subject to enforcement, this rule will restrict vessels from transiting inside the regulated area. This rule is categorically excluded from further review under paragraph 34(h) of Figure 2-1 of the Commandant Instruction. A preliminary environmental analysis checklist supporting this determination is available in the docket where indicated under ADDRESSES. We seek any comments or information that may lead to the discovery of a significant environmental impact from this rule.

List of Subjects in 33 CFR Part 100

Marine safety, Navigation (water), Reporting and Recordkeeping Requirements, Waterways.

For the reasons discussed in the preamble, the Coast Guard amends 33 CFR Part 100 as follows:

PART 100—MARINE EVENTS

1. The authority citation for part 100 continues to read as follows:

Authority: 33 U.S.C. 1233.

2. Revise § 100.1101 to read as follows:

§ 100.1101 Southern California Annual Marine Events for the San Diego Captain of the Port Zone.

(a) General. Special local regulations are established for the events listed in Table 1 of this section. Notice of implementation of these special local regulations will be made by publication in the Federal Register 30 days prior to the event for those events without specific dates. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year in accordance with 33 CFR 100.15 to the cognizant Coast Guard Sector Commander no less than 60 days before the start of the proposed event. Sponsors are informed that ample lead time is required to inform all Federal, state, local agencies, and/or other interested parties and to provide the sponsor the best support to ensure the safety of life and property.

(b) Special local regulations. All persons and vessels not registered with the sponsor as participants or as official patrol vessels are considered spectators. The “official patrol” consists of any Coast Guard or other vessel assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to control the movement of all vessels in the regulated area or to restrict vessels from entering the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM.”

(4) The Patrol Commander may, upon request, allow the transit of commercial vessels through regulated areas when it is safe to do so.

(5) The Coast Guard may be assisted by other Federal, state, or local agencies.

Table 1 to § 100.1101
[All coordinates referenced use datum NAD 83]
1. San Diego Fall Classic
Sponsor | San Diego Rowing Club.
Event Description | Competitive rowing race.
Date | Sunday in November.
Location | Mission Bay, San Diego, CA.
Regulated Area | The waters of Mission Bay to include South Pacific Passage, Fiesta Bay, and the waters around Vacation Isle.
2. California Half Ironman Triathlon
Sponsor | World Triathlon Corporation.
Event Description | Swimming Portion of Triathlon Race.
Date | Saturday in late March or early April.
Location | Oceanside Harbor, CA.
Regulated Area | The waters of Oceanside Harbor, CA, including the entrance channel.
3. San Diego Crew Classic
Sponsor | San Diego Crew Classic.
Event Description | Competitive rowing race.
Date | First Saturday and Sunday in April.
Location | Mission Bay, San Diego, CA.
Regulated Area | The waters of Mission Bay to include South Pacific Passage, Fiesta Bay, and the waters around Vacation Isle.
4. Dutch Shoe Regatta
Sponsor | San Diego Yacht Club.
Event Description | Sailboat Race.
Date | Friday in late July.
Location | San Diego Bay, CA.
Regulated Area | The waters of San Diego Bay, CA, from Shelter Island to Glorietta Bay.
5. San Diego Parade of Lights
Sponsor | San Diego Bay Parade of Lights.
Event Description | Boat Parade.
Date | Two Sunday nights in December.
Location | San Diego Bay, CA.
Regulated Area | A pre-determined course in the northern portion of the San Diego Main Ship Channel from Shelter Island Basin, past the Embarcadero, crossing the federal navigable channel and ending off of Coronado Island.
6. Mission Bay Parade of Lights
Sponsor | Mission Bay Yacht Club.
Event Description | Boat Parade.
Date | December.
Location | Mission Bay, San Diego, CA.
Regulated Area | Mission Bay, the Main Entrance Channel, Sail Bay, and Fiesta Bay.
7. ITU World Triathlon
Sponsor | Lagardere Unlimited Upsolut USAT LLC.
Event Description | Swimming Portion of Triathlon Race.
Date | Late April or early May.
Location | Mission Bay, San Diego, CA.
Regulated Area | Bonita Cove San Diego, CA and Ventura Cove, Mission Bay, San Diego, CA.
8. Fearless Triathlon
Sponsor | Fearless Races, LLC.
Event Description | Swimming Portion of Triathlon Race.
Date | Weekend in March.
Location | Mission Bay, San Diego, CA.
Regulated Area | South Shores Boat Ramp, Mission Bay.
9. Bay to Bay Rowing and Paddling Regatta
Sponsor | Peninsula Family YMCA.
Event Description | Kayak, surfboard, and stand up paddle board paddling race.
Date | Saturday in July.
Location | San Diego, CA.
Regulated Area | The waters of Mission Bay, CA, to San Diego Bay, CA.
10. San Diego Sharkfest Swim
Sponsor | Enviro-Sports Productions Inc.
Event Description | Swim race.
Date | Saturday in September or October.
Location | San Diego Bay, CA.
Regulated Area | The waters of San Diego Bay, CA, from Seaport Village to Coronado Ferry Landing.
11. San Diego TriRock Triathalon
Sponsor | Competitor Group Inc.
Event Description | Swim race.
Date | Saturday in September.
Location | San Diego Bay, CA.
Regulated Area | The waters of San Diego Bay, CA, off the East Basin of Embarcadero Park.
12. San Diego Bayfair
Sponsor | Thunderboats Unlimited Inc.
Event Description | Professional High-speed powerboat race, closed course.
Date | Second or third weekend in September (Friday thru Sunday).
Location | Mission Bay, San Diego, CA.
Regulated Area | The waters of Mission Bay to include Fiesta Bay, the east side of Vacation Isle, and Crown Point shores.
13. Oceanside Harbor Days Tiki Swim
Sponsor | City of Oceanside.
Event Description | Swim race.
Date | Saturday in late September or early October.
Location | Oceanside Harbor, CA.
Regulated Area | The waters of Oceanside Harbor, CA, including the entrance channel.
14. U.S. Open Ski Racing Nationals
Sponsor | National Water-ski Race Association.
Event Description | Professional High-speed water ski powerboat race, closed course.
Date | One weekend in October.
Location | Mission Bay, San Diego, CA.
Regulated Area | The waters of Mission Bay to include Fiesta Bay, the east side of Vacation Isle.
15. San Diego Maritime Museum Tall Ship Festival of Sail
Sponsor | San Diego Maritime Museum.
Event Description | Tall ship festival.
Date | Annually over a weekend in September (3 day event).
Location | San Diego Bay, CA.
Regulated Area | The waters of San Diego Bay Harbor.
16. Hanohano Ocean Challenge
Sponsor | Hanohano Outrigger Canoe Club.
Event Description | Outrigger canoes and kayak race.
Date | Saturday in January.
Location | Mission Bay, San Diego, CA.
Regulated Area | Mission Bay, the Main Entrance Channel, Bonita Cove, South Shores Cove.
17. Crystal Pier Outrigger Race
Sponsor | Hanohano Outrigger Canoe Club.
Event Description | Outrigger canoe race.
Date | Saturday in May.
Location | Mission Bay, San Diego, CA.
Regulated Area | Mission Bay, the Main Entrance Channel, Sail Bay, Fiesta Bay, South Shore Channel, and waters adjacent to Crown Point Beach Park.
18. San Diego Ho`olaule`a and Keiki Heihei Wa`a Stand Up For the Kids Race
Sponsor | Na Koa Kai Canoe Club.
Event Description | Outrigger Canoe and Stand Up Paddle Board race.
Date | Weekend in May.
Location | Mission Bay, San Diego, CA.
Regulated Area | Mission Bay, De Anza Cove, and North Pacific Passage.

3. Revise § 100.1102 to read as follows:

§ 100.1102 Annual Marine Events on the Colorado River, between Davis Dam (Bullhead City, Arizona) and Headgate Dam (Parker, Arizona).

(a) General. Special local regulations are established for the events listed in Table 1 of this section. Notice of implementation of these special local regulations will be made by publication in the Federal Register 30 days prior to the event for those events without specific dates or by Notice to Mariners 20 Days prior to the event for those events listing a period for which a firm date is identifiable. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year in accordance with 33 CFR 100.15 to the cognizant Coast Guard Sector Commander no less than 60 days before the start of the proposed event. Sponsors are informed that ample lead time is required to inform all Federal, state, local agencies, and/or other interested parties and to provide the sponsor the best support to ensure the safety of life and property. A Coast Guard-National Park Service agreement exists for both the Glen Canyon and Lake Mead National Recreational Areas; applicants shall contact the cognizant authority for approval of events in these areas.

(b) Special local regulations. All persons and vessels not registered with the sponsor as participants or as official patrol vessels are considered spectators. The “official patrol” consists of any Coast Guard, other Federal, state or local law enforcement, and any public or sponsor-provided vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to control the movement of all vessels in the regulated area or to restrict vessels from entering the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM.”

(4) The Patrol Commander may, upon request, allow the transit of commercial vessels through regulated areas when it is safe to do so.

(5) The Coast Guard may be assisted by other Federal, state, or local agencies.

Table 1 to § 100.1102
[All coordinates referenced use datum NAD 83.]
1. Lake Havasu Winter Water-Ski Race
Sponsor | National Water-ski Racing Association.
Event Description | Water-ski races.
Date | Saturday and Sunday in late February or early March.
Location | Lake Havasu, AZ.
Regulated Area | That portion of the lower Colorado River on the Arizona side between Thompson Bay and Copper Canyon.
2. Havasu Landing Regatta
Sponsor | Southern Outboard Association.
Event Description | Boat Races on closed course.
Date | Saturday and Sunday in February.
Location | Havasu Lake, CA.
Regulated Area | That portion of the lower Colorado River on the California side at Havasu Landing Resort and Casino.
3. Parker International Water-Ski Race
Sponsor | International Water-ski Race Association.
Event Description | Water-ski Show.
Date | Second Saturday and Sunday in March.
Location | Parker, AZ.
Regulated Area | The entire water area of the Colorado River beginning at BlueWater Marina in Parker, AZ, and extending approximately 10 miles to La Paz County Park.
4. Desert Storm
Sponsor | Lake Racer LLC.
Event Description | Boat Poker Run and Exhibition Runs.
Date | April weekend (3 day event).
Location | Lake Havasu, AZ.
Regulated Area | The waters of the lower Colorado River encompassed from the eastern line off of Algoma Pier Head Lighthouse to the Split Rock Lighthouse as the western line, with the following boundaries:
| Eastern Boundary Line: 34°26′51″ N, 114°20′41″ W to 34°27′17″ N, 114°20′51″ W.
| Western Boundary Line: 34°27′18″ N, 114°22′34″ W to 34°26′55″ N, 114°22′59″ W.
5. Lake Havasu Grand Prix
Sponsor | Pacific Offshore Powerboat Racing Association (POPRA).
Event Description | Boat Races on closed course.
Date | April weekend (2 day event).
Location | Lake Havasu, AZ.
Regulated Area | The waters of the lower Colorado River encompassed by the following boundaries:
| Boundary one from 34°27′44″ N, 114°20′53″ W to 34°27′51″ N, 114°20′43″ W.
| Boundary two from 34°26′50″ N, 114°20′41″ W to 34°27′14″ N, 114°20′55″ W.
| Boundary three from 34°26′10″ N, 114°18′40″ W to 34°25′50″ N, 114°18′52″ W.
6. BlueWater Resort and Casino Spring Classic
Sponsor | Southern California Speedboat Club.
Event Description | Professional High-speed powerboat race, closed course.
Date | Saturday and Sunday in April.
Location | Parker, AZ.
Regulated Area | The Lake Moovalya area of the Colorado River in Parker, AZ.
7. BlueWater Resort and Casino Southwest Showdown
Sponsor | Arizona Drag Boat Association.
Event Description | Professional High-speed powerboat drag race, on a measured course.
Date | Saturday and Sunday in March.
Location | Parker, AZ.
Regulated Area | Adjacent to the BlueWater River Casino, Arizona side of the Colorado River in Parker, AZ.
8. BlueWater Resort and Casino West Coast Nationals
Sponsor | RPM Racing Enterprises.
Event Description | Professional High-speed powerboat race, closed course.
Date | Saturday and Sunday in April.
Location | Parker, AZ.
Regulated Area | The Lake Moovalya area of the Colorado River and the portion of the Colorado River adjacent to the BlueWater River Casino, in Parker, AZ.
9. Great Western Tube Float
Sponsor | City of Parker, AZ.
Event Description | River float.
Date | One Saturday in June.
Location | Parker, AZ.
Regulated Area | The navigable waters of the Colorado River from La Paz County Park to the BlueWater Resort and Casino, immediately before the Headgate Dam.
10. IJSBA World Finals
Sponsor | International Jet Sports Boating Association (IJSBA).
Event Description | Personal Watercraft Race.
Date | Second Saturday through third Sunday of October (10 Days).
Location | Lake Havasu City, AZ.
Regulated Area | The navigable waters of Lake Havasu, AZ in the area known as Crazy Horse Campgrounds.
11. Parker Enduro
Sponsor | Parker Area Chamber of Commerce.
Event Description | Hydroplane, flatbottom, tunnel, and v-bottom powerboat race.
Date | Late October.
Location | Parker, AZ.
Regulated Area | Between river miles 179 and 185 (between the Roadrunner Resort and Headgate Dam).
12. BlueWater Resort and Casino Thanksgiving Regatta
Sponsor | Southern California Speedboat Club.
Event Description | Boat Races.
Date | Thursday, Friday, Saturday, and Sunday during Thanksgiving week.
Location | Parker, AZ.
Regulated Area | The Lake Moovalya area of the Colorado River and the portion of the Colorado River adjacent to the BlueWater River Casino, in Parker, AZ.
13. Lake Havasu City Boat Parade of Lights
Sponsor | London Bridge Yacht Club.
Event Description | Boat parade during which vessels pass by a pre-designated vessel and then transit through the London Bridge Channel.
Date | First Saturday and Sunday in December.
Location | Lake Havasu, AZ.
Regulated Area | A pre-determined course that travels through the waters of North Lake Havasu, London Bridge Channel and Thompson Bay.
14. Mark Hahn Memorial 300 PWC Endurance Race
Sponsor | DSM Events.
Event Description | 300 Nautical Mile PWC Race Loop Track.
Date | Late February.
Location | Lake Havasu City, AZ.
Regulated Area | A 10 mile course on Northern Lake Havasu from London Bridge to North Lake Havasu Landing.
15. Lake Havasu Triathlon
Sponsor | Tucson Racing.
Event Description | Swim race.
Date | March.
Location | Lake Havasu, AZ.
Regulated Area | Waters North of London Bridge to waters just north of Crazy Horse Camp Ground.
16. Bullhead City River Regatta
Sponsor | Bullhead City.
Event Description | River float.
Date | One Saturday in August.
Location | Bullhead City, AZ.
Regulated Area | The navigable waters of the Colorado River from Camp Davis to the Rotary Park.
17. BlueWater Triathlon
Sponsor | Blue Water Resort & Casino
Event Description | Swimming Portion of Triathlon Race.
Date | One Saturday in October.
Location | Parker, AZ.
Regulated Area | The waters of the Colorado River between river between the BlueWater Resort & Casino Amphitheater and just North of Headgate Rock Dam in Parker, AZ.
18. BlueWater Resort and Casino 300 Enduro
Sponsor | RPM Racing Enterprises.
Event Description | Boat Race.
Date | Late October.
Location | Parker, AZ.
Regulated Area | Between river miles 179 and 185 (between the Roadrunner Resort and Headgate Dam).
19. Another Dam Race
Sponsor | Blue Water Resort and Casino.
Event Description | Kayak, surbboard, surfski, stand up paddle board race.
Date | A Saturday in November.
Location | Parker, AZ.
Regulated Area | Between river miles 179 and 185 (between the Roadrunner Resort and Headgate Dam).

4. Revise § 100.1104 to read as follows:

§ 100.1104 Southern California Annual Marine Events for the Los Angeles Long Beach Captain of the Port Zone.

(a) General. Special local regulations are established for the events listed in Table 1 of this section. Notice of implementation of these special local regulations will be made by publication in the Federal Register 30 days prior to the event for those events without specific dates or by Notice to Mariners 20 Days prior to the event for those events listing a period for which a firm date is identifiable. In all cases, further information on exact dates, times, and other details concerning the number and type of participants and an exact geographical description of the areas are published by the Eleventh Coast Guard District in the Local Notice to Mariners at least 20 days prior to each event. To be placed on the mailing list for Local Notice to Mariners contact: Commander (dpw), Eleventh Coast Guard District, Coast Guard Island, Building 50-2, Alameda, CA 94501-5100. Note: Sponsors of events listed in Table 1 of this section must submit an application each year in accordance with 33 CFR 100.15 to the cognizant Coast Guard Sector Commander no less than 60 days before the start of the proposed event. Sponsors are informed that ample lead time is required to inform all Federal, state, local agencies, and/or other interested parties and to provide the sponsor the best support to ensure the safety of life and property.

(b) Special local regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the regulated areas during all applicable effective dates and times unless cleared to do so by or through an official patrol vessel.

(2) When hailed and/or signaled by an official patrol vessel, any spectator located within a regulated area during all applicable effective dates and times shall come to an immediate stop.

(3) The Patrol Commander (PATCOM) is empowered to control the movement of all vessels in the regulated area or to restrict vessels from entering the regulated area. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM.”

(4) The Patrol Commander may, upon request, allow the transit of commercial vessels through regulated areas when it is safe to do so.

(5) The Coast Guard may be assisted by other Federal, state, or local agencies.

Table 1 to § 100.1104
[All coordinates referenced use datum NAD 83.]
1. Newport to Ensenada Yacht Race
Sponsor | Newport Ocean Sailing Association.
Event Description | Sailing vessel race; open ocean.
Date | Fourth Friday in April.
Location | Newport Beach, CA.
Regulated Area | Starting area only. All waters of the Pacific Ocean near Newport Beach, CA bounded by a line starting 33°35′18″ N, 117°53′18″ W thence to 33°34′54″ N, 117°53′18″ W thence to 33°34′54″ N, 117°54′30″ W thence to 33°35′18″ N, 117°54′30″ W thence returning to the point of origin.
2. Congressional Cup
Sponsor | Long Beach Yacht Club.
Event Description | Competitive sailboat race series.
Date | Annually in March.
Location | Long Beach Harbor, CA.
Regulated Area | The waters of Long Beach Harbor surrounded by Island White, Island Freeman, and Island Chaffee. The race area is designated at Congressional Cup Stadium.
3. Transpac
Sponsor | Transpac Yacht Club.
Event Description | Competitive long distance sailboat race from Los Angeles to Honolulu.
Date | Bi-annually in early Summer.
Location | Long Beach Harbor, CA.
Regulated Area | All navigable waters from the surface to the sea floor within positions 33°−41.9390′N 118°−18.747′ W, 34°−41.205′ N 118°−18.747′ W, 33°−41.205′ N 118°−17.553′ W, and 33°−41.939′ N 118°−17.553′ W.
4. Dana Point Tall Ship Festival
Sponsor | Dana Point Marine Institute
Event Description | Tall ship festival.
Date | Annually in September.
Location | Dana Point Harbor, CA.
Regulated Area | The waters of Dana Point Harbor.
5. Morro Bay Holiday Boat Parade
Sponsor | City of Morro Bay.
Event Description | Holiday lighted boat parade.
Date | Annually in early December.
Location | Morro Bay Harbor, CA.
Regulated Area | The waters of Morro Bay Harbor.
6. Santa Barbara Holiday Boat Parade
Sponsor | City of Santa Barbara.
Event Description | Holiday lighted boat parade.
Date | Annually in early December.
Location | Santa Barbara Harbor, CA.
Regulated Area | The waters of Santa Barbara Harbor.
7. Ventura Harbor Holiday Boat Parade
Sponsor | Ventura Harbor District.
Event Description | Holiday lighted boat parade.
Date | Two nights annually in mid December.
Location | Ventura Harbor, CA.
Regulated Area | The waters of Ventura Harbor.
8. Channel Islands Harbor Holiday Boat Parade
Sponsor | Channel Islands Harbor District.
Event Description | Holiday lighted boat parade.
Date | Annually in December.
Location | Channel Islands Harbor, CA.
Regulated Area | The waters of Channel Islands Harbor.
9. Marina del Rey Holiday Boat Parade
Sponsor | Los Angeles County Department of Beaches and Harbors.
Event Description | Holiday lighted boat parade.
Date | Annually in early December.
Location | Marina del Rey, CA.
Regulated Area | The waters of Marina del Rey.
10. King Harbor Holiday Boat Parade
Sponsor | King Harbor Yacht Club.
Event Description | Holiday lighted boat parade.
Date | Annually in December.
Location | King Harbor, CA.
Regulated Area | The waters of King Harbor.
11. Port of Los Angeles Holiday Boat Parade
Sponsor | Port of Los Angeles.
Event Description | Holiday lighted boat parade.
Date | Annually in early December.
Location | Port of Los Angeles, CA.
Regulated Area | The waters of the Port of Los Angeles.
12. Parade of 1,000 Lights
Sponsor | Shoreline Yacht Club.
Event Description | Holiday lighted boat parade.
Date | Annually in December.
Location | Long Beach Harbor, CA.
Regulated Area | Queensway Bay, Rainbow Harbor.
13. Naples Island Holiday Boat Parade
Sponsor | Naples Island Improvement Association.
Event Description | Holiday lighted boat parade.
Date | Annually in December.
Location | Naples Island, CA.
Regulated Area | The waters of Alamitos Bay.
14. Huntington Harbor Holiday Boat Parade
Sponsor | Huntington Philharmonic Association.
Event Description | Holiday lighted boat parade.
Date | Two nights annually in December.
Location | Huntington Harbor, CA.
Regulated Area | The waters and canals of Huntington Harbor.
15. Newport Beach Holiday Boat Parade
Sponsor | Newport Beach Chamber of Commerce.
Event Description | Holiday lighted boat parade.
Date | Five nights annually in mid December.
Location | Newport Beach Harbor, CA.
Regulated Area | The waters of Newport Beach Harbor.
16. Dana Point Holiday in the Harbor
Sponsor | Dana Point Harbor.
Event Description | Holiday festival and lighted boat parade.
Date | 4 nights annually in December.
Location | Dana Point Harbor, CA.
Regulated Area | The waters of Dana Point Harbor.
17. Catalina Ski Race
Sponsor | Long Beach Waterski Club.
Event Description | Competitive high speed waterski race.
Date | Annually in July.
Location | Long Beach Harbor, CA, to Santa Catalina Island, CA and back.
Regulated Area | The waters of Long Beach Harbor bordered by Queens Way Bridge, the Long Beach Breakwater, and the Alamitos Bay West Jetty.

Dated: January 16, 2014.
K.L. Schultz,
Rear Admiral, U.S. Coast Guard, Commander, Eleventh Coast Guard District.

[FR Doc. 2014-02217 Filed 2-3-14; 8:45 am]

BILLING CODE 9110-04-P